INTERNATIONAL TRADE COMMISSION

[Investigation No. 337-TA-1420]

Certain Smart Televisions; Notice of a Commission Determination Not To Review an Initial Determination Granting a Joint Motion To Terminate the Investigation in Its Entirety Based Upon Settlement

AGENCY: U.S. International Trade Commission.

ACTION: Notice.

SUMMARY: Notice is hereby given that the U.S. International Trade Commission has determined not to review the presiding administrative law judge's (“ALJ”) initial determination (“ID”) (Order No. 19) granting a joint motion by complainant and respondents to terminate the investigation in its entirety based upon settlement.

FOR FURTHER INFORMATION CONTACT: Panyin A. Hughes, Office of the General Counsel, U.S. International Trade Commission, 500 E Street SW, Washington, DC 20436, telephone (202) 205-3042. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On September 27, 2024, the Commission instituted this investigation based on a complaint filed by Maxell, Ltd. of Kyoto, Japan (“Maxell”). 89 FR 79307-08 (Sept. 27, 2024). The complaint alleged violations of section 337 based on the importation into the United States, the sale for importation, or the sale within the United States after importation of certain smart televisions by reason of infringement of one or more of claim 4 of U.S. Patent No. 8,549,109; claims 7-11 of U.S. Patent No. 11,451,860; claim 1 of U.S. Patent No. 10,958,971; and claims 1, 4, 6, 11, 12, 15, 17, and 22 of U.S. Patent No. 11,924,502 (“the '502 patent”). Id. The Commission's notice of investigation named the following respondents: TCL Electronics Holdings Ltd. (f/k/a TCL, Multimedia Technology Holdings, Ltd.) of New Territories, Hong Kong; TCL Industries Holdings Co., Ltd. of Guangdong, China; TTE Technology, Inc. (d/b/a TCL North America) of Corona, California; TCL King Electrical Appliances, (Huizhou) Co. Ltd. of Huizhou, China; Manufacturas Avanzadas S.A. de C.V. of Ciudad Juarez, Mexico; TCL Smart Device (Vietnam) Co., Ltd. of Binh Duong Province, Vietnam (collectively “Active Respondents”); and T.C.L. Industries Holdings (H.K.) Limited of New Territories, Hong Kong; TTE Corporation of New Territories, Hong Kong; Shenzhen TCL New Technology Co., Ltd. of Nanshan, China; TCL Optoelectronics Technology (Huizhou) Co., Ltd. of Huizhou, China; TCL Overseas Marketing Ltd. of New Territories, Hong Kong; and TCL Technology Group Corporation, (f/k/a TCL Corp.) of Huizhou, China (collectively, “Terminated Respondents”). The Office of Unfair Import Investigations (“OUII”) was also named as a party in this investigation. Id.

On April 7, 2025, the Commission terminated the investigation as to all asserted claims of the '502 patent. Order No. 11 (Apr. 7, 2025), unreviewed by Comm'n Notice (Apr. 29, 2025).

On May 28, 2025, the Commission terminated the investigation as to the Terminated Respondents. Order No. 14 (May 7, 2025), unreviewed by Comm'n Notice (May 28, 2025).

On August 11, 2025, Maxell and the Active Respondents filed a joint motion to terminate the investigation in its entirety based upon settlement. On August 20, 2025, OUII filed a response in support of the motion.

On August 22, 2025, the ALJ issued the subject ID (Order No. 19) granting the motion. The ID noted that Commission Rule 210.21(a)(2) provides that “[a]ny party may move at any time for an order to terminate an investigation in whole or in part as to any or all respondents on the basis of settlement, a licensing or other agreement . . . .” ID at 1 (citing 19 CFR 210.21(a)(2)). The ID found that the motion complies with Commission Rules and includes a statement that apart from a joint discovery stipulation in this investigation, “there are no agreements, written or oral, express or implied, between the parties concerning the subject matter of the investigation.” Id. at 1-2 (citing 19 CFR 210.21(b)(1)). The ID noted that the private parties also provided both confidential and redacted public copies of the relevant settlement agreement as required by Commission Rules. Id. at 2 (citing 19 CFR 210.21(b)(1)). The ID further found that “termination of this investigation by settlement will not adversely affect the public interest.” Id. at 3 (citing 19 CFR 210.50(b)(2)). No party petitioned for review of the ID.

The Commission has determined not to review the subject ID. The investigation is hereby terminated in its entirety.

The Commission vote for this determination took place on September 15, 2025.

The authority for the Commission's determination is contained in section 337 of the Tariff Act of 1930, as amended (19 U.S.C. 1337), and in Part 210 of the Commission's Rules of Practice and Procedure (19 CFR part 210).

By order of the Commission.
Issued: September 15, 2025.
Susan Orndoff,
Supervisory Attorney.

[FR Doc. 2025-18032 Filed 9-17-25; 8:45 am]

BILLING CODE 7020-02-P